DEPARTMENT OF THE INTERIOR

National Park Service

[N6493; NPS-WASO-NAGPRA-NPS0041034; PPWOCRADN0-PCU00RP14.R50000]

Notice of Inventory Completion: U.S. Department of the Interior, Bureau of Land Management, Arizona State Office, Phoenix, AZ

AGENCY: National Park Service, Interior.

ACTION: Notice.

SUMMARY: In accordance with the Native American Graves Protection and Repatriation Act (NAGPRA), the U.S. Department of the Interior, Bureau of Land Management (BLM), Arizona State Office, has completed an inventory of human remains and associated funerary objects and has determined that there is a cultural affiliation between the human remains and associated funerary objects and Indian Tribes in this notice.

DATES: Repatriation of the human remains and associated funerary objects in this notice may occur on or after October 14, 2025.

ADDRESSES: Send written requests for repatriation of the human remains and associated funerary objects in this notice to Raymond Suazo, BLM, Arizona State Office, One North Central Avenue, Suite 800, Phoenix, AZ 85004, email BLM_AZ_ASOWEB@blm.gov.

SUPPLEMENTARY INFORMATION: This notice is published as part of the National Park Service's administrative responsibilities under NAGPRA. The determinations in this notice are the sole responsibility of the BLM, Arizona State Office, and additional information on the determinations in this notice, including the results of consultation, can be found in its inventory or related records. The National Park Service is not responsible for the determinations in this notice.

Abstract of Information Available

Based on the information available, human remains representing, at least, one individual has been identified from a site in Cochise County, AZ. The 88 associated funerary objects consist of plain and decorated sherds, chipped stone, flaked tools, a projectile point, a bone awl, burned wood, mineral samples, pollen samples, flotation samples and Carbon-14 samples.

The archaeological site AZ BB:12:9 (ASM) was intentionally excavated as part of the All-American Pipeline Survey Project, undertaken by New Mexico State University. The survey sought to locate cultural resources impacted by a right-of-way for an oil pipeline extending from Texas to California.

The materials from the 1986 excavations at AZ BB:12:9 (ASM) were transferred to the University of New Mexico for analysis and documentation. On December 12, 1990, the collection was conveyed to Arizona State Museum (ASM) for curation.

Cultural Affiliation

Based on the information available and the results of consultation, cultural affiliation is reasonably identified by the information available about the human remains and associated funerary objects described in this notice.

Determinations

The BLM has determined that:

• The human remains described in this notice represent the physical remains of one individual of Native American ancestry.

• The 88 objects described in this notice are reasonably believed to have been placed intentionally with or near individual human remains at the time of death or later as part of the death rite or ceremony.

• There is a connection between the human remains and associated funerary objects described in this notice and the Ak-Chin Indian Community; Gila River Indian Community of the Gila River Indian Reservation, Arizona; Hopi Tribe of Arizona; Pascua Yaqui Tribe of Arizona.; Salt River Pima-Maricopa Indian Community of the Salt River Reservation, Arizona; San Carlos Apache Tribe of the San Carlos Reservation, Arizona; and the Tohono O'odham Nation of Arizona.

Requests for Repatriation

Written requests for repatriation of the human remains and associated funerary objects in this notice must be sent to the authorized representative identified in this notice under ADDRESSES. Requests for repatriation may be submitted by:

1. Any one or more of the Indian Tribes identified in this notice.

2. Any lineal descendant or Indian Tribe not identified in this notice who shows, by a preponderance of the evidence, that the requestor is a lineal descendant or an Indian Tribe with cultural affiliation.

Repatriation of the human remains and associated funerary objects described in this notice to a requestor may occur on or after October 14, 2025. If competing requests for repatriation are received, the BLM must determine the most appropriate requestor prior to repatriation. Requests for joint repatriation of the human remains and associated funerary objects are considered a single request and not competing requests. The BLM is responsible for sending a copy of this notice to the Indian Tribes identified in this notice.

Authority: Native American Graves Protection and Repatriation Act, 25 U.S.C. 3003, and the implementing regulations, 43 CFR 10.10.

Dated: August 29, 2025.
Melanie O'Brien,
Manager, National NAGPRA Program.

[FR Doc. 2025-17620 Filed 9-11-25; 8:45 am]

BILLING CODE 4312-52-P